DEPARTMENT OF COMMERCE

National Oceanic and Atmospheric Administration

[RTID 0648-XA917]

Caribbean Fishery Management Council; Public Meetings

AGENCY: National Marine Fisheries Service (NMFS), National Oceanic and Atmospheric Administration (NOAA), Commerce.

ACTION: Notice of public meetings.

SUMMARY: The Caribbean Fishery Management Council's (Council) District Advisory Panels (DAPs) will hold public virtual meetings to address the items contained in the tentative agenda included in the SUPPLEMENTARY INFORMATION.

DATES: The DAPs public virtual meetings will be held as follows: St. Thomas/St. John DAP, March 29, 2021, from 10 a.m. to 12 p.m.; Puerto Rico DAP, March 29, 2021, from 1 p.m. to 3 p.m.; St. Croix DAP, March 30, 2021, from 10 a.m. to 12 p.m. All meetings will be at Atlantic Standard Time (AST).

ADDRESSES: You may join the DAPs public virtual meetings (via Zoom) from a computer, tablet or smartphone by entering the following addresses:

Zoom Virtual Meeting: DAP-STT/STJ

Time: Mar 29, 2021, 10 a.m. Puerto Rico

Join Zoom Meeting

https://us02web.zoom.us/j/83854425765?pwd=aW1McVk5WFh3REh6TVAzWFNTOGlXdz09

Meeting ID: 838 5442 5765

Passcode: 778522

One Tap Mobile

+17879451488,,83854425765#,,,,*778522# Puerto Rico

+17879667727,,83854425765#,,,,*778522# Puerto Rico

Zoom Virtual Meeting: DAP-PR

Time: Mar 29, 2021, 1 p.m. Puerto Rico

Join Zoom Meeting

https://us02web.zoom.us/j/86873299715?pwd=SklOeFZxVGx5WWNMaEt0WnBZRDVFZz09

Meeting ID: 868 7329 9715

Passcode: 305290

One Tap Mobile

+17879667727,,86873299715#,,,,*305290# Puerto Rico

+19399450244,,86873299715#,,,,*305290# Puerto Rico

Zoom Virtual Meeting: DAP-STX

Time: Mar 30, 2021, 10 a.m. Puerto Rico

Join Zoom Meeting

https://us02web.zoom.us/j/81928632796?pwd=emdrUEkwb2tPZkNoWXRWTVM0eHZrUT09

Meeting ID: 819 2863 2796

Passcode: 588443

One Tap Mobile

+19399450244,,81928632796#,,,,*588443# Puerto Rico

+17879451488,,81928632796#,,,,*588443# Puerto Rico

FOR FURTHER INFORMATION CONTACT: Miguel Rolón, Executive Director, Caribbean Fishery Management Council, 270 Muñoz Rivera Avenue, Suite 401, San Juan, Puerto Rico 00918-1903; telephone: (787) 398-3717.

SUPPLEMENTARY INFORMATION: The following items included in the tentative agenda are:

—Call to Order

—Roll Call

—Adoption of Agenda

—5-year Strategic Plan

—Other Business

All three meetings will be discussing the same agenda items.

Other than the starting date and time the order of business may be adjusted as necessary to accommodate the completion of agenda items, at the discretion of the Chair. The meetings will begin on March 29, 2021 at 10 a.m. AST, and will end on March 30, 2021, at 12 p.m. AST.

Special Accommodations

For any additional information on this public virtual meeting, please contact Diana Martino, Caribbean Fishery Management Council, 270 Muñoz Rivera Avenue, Suite 401, San Juan, Puerto Rico 00918-1903, telephone: (787) 226-8849.

Authority: 16 U.S.C. 1801 et seq.

Dated: March 3, 2021.
Tracey L. Thompson,
Acting Deputy Director, Office of Sustainable Fisheries, National Marine Fisheries Service.

[FR Doc. 2021-04757 Filed 3-5-21; 8:45 am]

BILLING CODE 3510-22-P